NATIONAL AERONAUTICS AND SPACE ADMINISTRATION

[Notice (02-048)]

Debt Collection Improvement Act of 1996: Administrative Wage Garnishment

AGENCY: National Aeronautics and Space Administration.

ACTION: Notice of withdrawal.

SUMMARY: The National Aeronautics and Space Administration (NASA) has previously issued a Notice concerning administrative wage garnishment under the Debt Collection Improvement Act of 1996, in the Federal Register on March 7, 2002, (67 FR 10447). NASA withdraws that Notice and will be adopting new regulations in rulemaking.

DATES: Effective: April 9, 2002.

ADDRESSES: NASA Headquarters, Code BFZ, Washington, DC 20546.

FOR FURTHER INFORMATION CONTACT: Melvin Denwiddie, (202) 358-0983.

Stephen J. Varholy,
Deputy Chief Financial Officer.

[FR Doc. 02-8487 Filed 4-8-02; 8:45 am]

BILLING CODE 7510-01-P